ENVIRONMENTAL PROTECTION AGENCY

40 CFR Part 300

[FRL-7056-4]

National Oil and Hazardous Substances Pollution Contingency Plan; National Priorities List

AGENCY: Environmental Protection Agency.

ACTION: Notice of intent to delete Aladdin Plating Superfund Site from the National Priorities List; request for comments.

SUMMARY: The Environmental Protection Agency (EPA) Region III announces its intent to delete the Aladdin Plating Superfund Site (Site) located in Scott and South Abington Townships, Lackawanna County, Commonwealth of Pennsylvania, from the National Priorities List (NPL) and requests public comment on this proposed action. The NPL constitutes appendix B of 40 CFR part 300 which is the National Oil and Hazardous Substances Pollution Contingency Plan (NCP), which EPA promulgated pursuant to section 105 of the Comprehensive Environmental Response, Compensation, and Liability Act (CERCLA), as amended. EPA and the Pennsylvania Department of Environmental Protection (PADEP) have determined that the remedial action for the site has been successfully executed.

DATES: Comments concerning the proposed deletion of this Site from the NPL may be submitted on or before October 17, 2001.

ADDRESSES: Comments may be mailed to: Patrick McManus (3HS21), Remedial Project Manager, U.S. Environmental Protection Agency, Region III, 1650 Arch Street, Philadelphia, Pennsylvania 19103-2029.

Comprehensive information, including the deletion docket, on this Site is available for viewing at the Site information repositories at the following locations: Regional Center for Environmental Information, U.S. Environmental Protection Agency, Region III, 1650 Arch Street, Philadelphia, Pennsylvania, 19103, 215-814-5254 or 800-553-2509, Monday through Friday 8 a.m. to 4:30 p.m.; Scott Township Municipal Building, Route 457, Olyphant, PA 18447, 570-254-6969; South Abington Township Building, 104 Shady Lane, Montdale, PA 18410, 570-586-2111.

FOR FURTHER INFORMATION CONTACT: Patrick McManus (3HS21), Remedial Project Manager, U.S. Environmental Protection Agency, Region III, 1650 Arch Street, Philadelphia, Pennsylvania, 19103-2029. Telephone 215-814-3198 or 800-553-2509, e-mail address: mcmanus.pat@epa.gov.

SUPPLEMENTARY INFORMATION:

Table of Contents

I. Introduction

II. NPL Deletion Criteria

III. Deletion Procedures

IV. Basis of Intended Site Deletion

I. Introduction

The U.S. Environmental Protection Agency, Region III announces its intent to delete the Aladdin Plating Superfund Site from the NPL, appendix B of the National Oil and Hazardous Substance Pollution Contingency Plan (NCP), 40 CFR part 300, and requests public comments on this proposed action. EPA identifies sites that appear to present a significant risk to public health, welfare or the environment, and maintains the NPL as the list of these sites. As described in § 300.425(e)(3) of the NCP, sites deleted from the NPL remain eligible for remedial actions in the unlikely event that future conditions warrant such action at the site.

EPA and the Pennsylvania Department of Environmental Protection (PADEP) have determined that remedial activities conducted at the Site have been successfully executed.

EPA will accept comments on the proposal to delete this Site for thirty calendar days after publication of this notice in the Federal Register.

Section II of this document explains the criteria for deleting sites from the NPL. Section III discusses the procedures that EPA is using for this action. Section IV discusses the Aladdin Plating Superfund Site and explains how the Site meets the deletion criteria.

II. NPL Deletion Criteria

The NCP established the criteria that EPA uses to delete sites from the NPL. In accordance with 40 CFR 300.425(e), sites may be deleted from the NPL where no further response is appropriate. In making this determination, EPA shall consider, in consultation with the state, whether any of the following criteria have been met:

(i) The responsible parties or other parties have implemented all appropriate response actions required; or

(ii) All appropriate Fund-financed responses under CERCLA have been implemented and no further action by responsible parties is appropriate; or

(iii) The remedial investigation has shown that the release poses no significant threat to public health or the environment and, therefore, remedial measures are not appropriate.

Even when a site is deleted from the NPL, where hazardous substances, pollutants, or contaminants remain at the site above levels that allow for unlimited use and unrestricted exposure, EPA will conduct a review of the site at least every five years after the initiation of the remedial action at the site to ensure that the site remains protective of public health and the environment.

If new information becomes available which indicates a need for further action, EPA may initiate remedial actions. Whenever there is a significant release from a site deleted from the NPL, the site may be restored to the NPL without the application of the Hazard Ranking System.

III. Deletion Procedures

The following procedures were used for the intended deletion of this Site:

1. EPA Region III has recommended deletion and has prepared the relevant documents. All appropriate response actions required under CERCLA have been implemented.

2. PADEP has concurred with the deletion decision.

3. Concurrent with this Notice of Intent to Delete, an advertisement in a local newspaper presents information on the Site and announces the commencement of the thirty (30) day public comment period on the deletion package.

4. The EPA Region III Office has made all relevant documents supporting the proposed deletion available for the public to review in the Site information repositories identified above.

Deletion of the Site from the NPL does not itself create, alter, or revoke any individual's rights or obligations. The NPL is designed primarily for informational purposes and to assist EPA management. As mentioned in section II of this document, § 300.425(e)(3) of the NCP states that the deletion of a site from the NPL does not preclude eligibility for future response actions.

For deletion of this Site, EPA's Regional Office will accept and evaluate public comments on EPA's Notice of Intent to Delete before making a final decision to delete. If necessary, the EPA will prepare a Responsiveness Summary to address any significant public comments received.

A deletion occurs when the EPA Region III Regional Administrator places a final notice, a Notice of Deletion, in the Federal Register. Generally, the NPL will reflect deletions in the final update. Public notices and copies of the Responsiveness Summary will be made available to the public by the EPA Regional Office.

IV. Basis for Intended Site Deletion

The following summary provides the EPA's rationale for the proposal to delete this Site from the NPL.

Site Location

The Aladdin Plating Superfund Site is located near Scranton, Pennsylvania, on Layton Road in Scott and South Abington Townships, Lackawanna County, Commonwealth of Pennsylvania, approximately 1.5 miles north of the town of Chinchilla. The Site is surrounded on all sides by residential properties. The Site comprises approximately 6 acres on a hillside. The topography slopes steeply away from the Site on three of its sides.

A residential community of approximately fifty homes is located to the south and east within one-half mile of the Site. The area between the Site and Griffin Reservoir, which is north of the Site, is wooded and is sparsely populated. The nearest residential wells are within 500 feet of the Site.

Site History

Site contamination resulted from electroplating activities conducted from 1947 to 1982 by the Aladdin Electroplating Company. This company was primarily involved in chromium electroplating, but also conducted electroless nickel plating and decorative electroplating using copper and nickel. In addition to these three metals, various plating baths used at the facility contained sulfuric, chromic, and hydrochloric acids, as well as caustic and cyanide solutions. Liquid wastes generated by the company presumably contained all of these materials.

Historically, these liquid wastes were deposited into two unlined surface impoundments located on-site. The liquid wastes flowed downhill via an open drainage ditch from the electroplating building to the surface impoundments. These impoundments overflowed on occasion. Drums were also used for storage of plating solutions and disposal of plating wastes. Liquid wastes were discharged from floor drains directly to the soil through perforated pipe extending from the building in the direction of the surface impoundments. This practice continued until 1982, when a fire virtually destroyed the electroplating building and ended plating operations.

In 1987, an emergency removal action was conducted at the Site, during which the electroplating wastes remaining on-site in drums, vats, etc., were removed, and the fire-damaged electroplating building was demolished (due to contamination and unsafe conditions).

Based on information that had been collected by EPA before 1987, the Aladdin Plating Superfund Site was placed on the NPL on July 22, 1987. The investigation of the site was divided into two parts: soils (operable unit 1) and groundwater (operable unit 2).

Record of Decision—Soils

EPA issued a Record of Decision (ROD) for operable unit 1 of the Aladdin Plating Superfund Site in September 1988. The ROD was based on all of the soil sampling that had been conducted by EPA, which had revealed extensive chromium contamination in the soils. The ROD outlined a remedial action for source control.

The major components of the Remedial Action included:

1. Cleanup of contaminated soil to a cleanup level of 50 parts per million (ppm) of chromium, the level determined to be protective of groundwater.

2. Excavation and off-site stabilization of all chromium-contaminated soil.

3. Disposal of the stabilized soil in an appropriate off-site landfill.

4. Replacement of excavated soil with clean fill.

5. Future study of groundwater.

This cleanup action was begun on November 16, 1989, and removal of contaminated soil continued through May 1991. The soil was transported to EPA-approved hazardous waste disposal facilities in Alabama (phase 1) and Michigan (phase 2), where the soil was stabilized and/or solidified and then placed in permitted hazardous waste landfills. The area addressed in operable unit 1 measured approximately 400 feet by 1500 feet, and a total of more than 29,000 cubic yards of soils were removed from the Site (both phases).

Record of Decision—Groundwater

The second operable unit involved the study of groundwater. The liquid wastes discharged by the electroplating facility had caused contamination of the shallow water-bearing zone in the immediate area of the former plating building and impoundments. An extensive Remedial Investigation/Feasibility Study (RI/FS) was conducted at the Site and completed in January 1993. Based on this RI/FS, a ROD was issued on December 30, 1993, which determined that there was no current threat to human health or the environment from this contamination in its undisturbed condition. However, there was a concern that it could migrate into aquifers used for drinking water supplies in the area. Therefore, the remedy for operable unit 2 consisted of the following:

1. Installation of four new monitoring wells (completed).

2. Rehabilitation of all the existing monitoring wells (completed).

3. Institutional controls on the Site property to prevent disturbance of the contaminated shallow groundwater beneath the Site (in place).

The ROD also required five years of quarterly sampling of home wells adjacent to the Site and all on-site monitoring wells, followed by annual monitoring of these wells for thirty years. However, after the ROD was issued, it was determined that this activity was not a remedial activity, but a removal assessment activity. Therefore, on January 21, 2000, an Explanation of Significant Differences was issued which incorporated this change to the ROD. These sampling activities are being conducted, and will continue to be conducted for thirty years, but they are being completed as removal assessment activities rather than as part of the remedial action.

The sampling of water from home wells has indicated that no significant chromium contamination has migrated to the home wells. To date, nineteen rounds of sampling of home wells and sixteen rounds of sampling of monitoring wells have been completed. The results of the monitoring well sampling indicate that chromium levels have decreased in the shallow water bearing zone near the location of the former electroplating building since the initial groundwater sampling in 1992. Additionally, it is evident that chromium contamination has not migrated beyond the areas found to be contaminated at that time and no significant chromium contamination has migrated to the home wells near the site. It appears that the soil remedial activities that were completed at the site has improved that shallow groundwater conditions. Based on this information, the conclusions in the ROD have been supported by the well sampling and appear to have been appropriate.

To implement the institutional controls required by the ROD, on September 29, 2000, EPA issued an Administrative Order for Remedial Action (the Order) requiring the Site property owner to file a Notice of Use Restriction (the Notice) and a copy of the Order with the Recorder of Deeds for Lackawanna County to ensure that the documents are available for public review accompanying the deed to the property. The Notice explains the existence of contamination at the Site, provides an advisory that there shall be no disturbance of the surface of the property, and explains that EPA has access to the Site at all reasonable times for the purpose of conducting any activity relating to Site responses. The Order also requires the owner to refrain from any activity that could disturb the soil on the property or result in the migration of chromium contamination from the Site. On February 14, 2001, the Site owner presented the properly executed documents to the Recorder of Deeds for Lackawanna County to file accompanying the deed to the property.

With the implementation of the institutional controls, the full remedy called for in the ROD of December 30, 1993, has been implemented.

Five-Year Review

A five-year review for the Site was completed on September 29, 1999. At that time, the remedy was not considered to be protective because the institutional controls were not yet in place. As stated above, the institutional controls are now in place. Five-year reviews for the Site will continue to be conducted. The next Review is scheduled to be completed by September 30, 2004.

Community Involvement

Public participation activities have been satisfied as required in CERCLA section 113(k), 42 U.S.C. 9613(k), and CERCLA section 117, 42 U.S.C. 9617. Documents in the deletion docket on which EPA relied to make this recommendation of deletion from the NPL are available to the public in the information repositories.

Applicable Deletion Criteria

EPA is proposing deletion of this Site from the NPL. PADEP concurred with EPA that all appropriate responses under CERCLA have been implemented. Documents supporting this action are available from the docket. EPA believes that the criteria stated in section II(i) and (ii) for deletion of this Site have been met. Therefore, EPA is proposing the deletion of the Aladdin Plating Superfund Site from the NPL.

Dated: September 5, 2001.
James W. Newsom,
Acting Regional Administrator, Region III.

[FR Doc. 01-22998 Filed 9-14-01; 8:45 am]

BILLING CODE 6560-50-P